SMALL BUSINESS ADMINISTRATION

[Declaration of Disaster #3336]

State of Kansas

As a result of the President's major disaster declaration on April 27, 2001, I find that Barton County in the State of Kansas constitutes a disaster area due to damages caused by severe storms and tornadoes that occurred April 21, 2001 and continuing. Applications for loans for physical damage as a result of this disaster may be filed until the close of business on June 26, 2001, and for loans for economic injury until the close of business on January 28, 2002 at the address listed below or other locally announced locations: U.S. Small Business Administration, Disaster Area 3 Office, 4400 Amon Carter Blvd., Suite 102, Fort Worth, TX 76155.

In addition, applications for economic injury loans from small businesses located in the following contiguous counties may be filed until the specified date at the above location: Ellsworth, Pawnee, Rice, Rush, Russell and Stafford Counties in Kansas.

The interest rates are:

| Percent
For Physical Damage:
Homeowners with credit available elsewhere | 6.625
Homeowners without credit available elsewhere | 3.312
Businesses with credit available elsewhere | 8.000
Businesses and non-profit organizations without credit available elsewhere | 4.000
Others (including non-profit organizations) with credit available elsewhere | 7.125
For Economic Injury:
Businesses and small agricultural cooperatives without credit available elsewhere | 4.000

The number assigned to this disaster for physical damage is 333611 and for economic injury the number is 9L5900.

(Catalog of Federal Domestic Assistance Program Nos. 59002 and 59008.)
Dated: April 30, 2001.
Herbert L. Mitchell,
Associate Administrator for Disaster Assistance.

[FR Doc. 01-11250 Filed 5-3-01; 8:45 am]

BILLING CODE 8025-01-P